COMMODITY FUTURES TRADING COMMISSION

Global Markets Advisory Committee

AGENCY: Commodity Futures Trading Commission.

ACTION: Notice of meeting.

SUMMARY: The Commodity Futures Trading Commission (CFTC) announces that on May 14, 2015, from 2:00 p.m. to 5:30 p.m. the Global Markets Advisory Committee (GMAC) will hold a public meeting at the CFTC's Washington, DC headquarters. The meeting will focus on issues related to assessing clearinghouse safeguards and the CFTC's proposal on the cross-border application of its margin requirements for uncleared swaps. The meeting will consist of two panels. The first panel will discuss clearinghouse capital contributions as well as clearinghouse stress testing. The second panel will discuss the CFTC's proposal regarding cross-border application of its margin requirements for uncleared swaps.

DATES: The meeting will be held on Thursday, May 14, 2015, from 2:00 p.m. to 5:30 p.m. Members of the public who wish to submit written statements in connection with the meeting should submit them by May 7, 2015.

ADDRESSES: The meeting will take place in the Conference Center at the CFTC's headquarters, Three Lafayette Centre, 1155 21st Street NW., Washington, DC 20581. Written statements should be submitted by mail to: Commodity Futures Trading Commission, Three Lafayette Centre, 1155 21st Street NW., Washington, DC 20581, attention: Office of the Secretary; or by electronic mail to: secretary@cftc.gov. Please use the title “Global Markets Advisory Committee” in any written statement you submit. Any statements submitted in connection with the committee meeting will be made available to the public, including publication on the CFTC Web site, www.cftc.gov.

FOR FURTHER INFORMATION CONTACT: Danielle Barrett, GMAC Designated Federal Officer, Commodity Futures Trading Commission, Three Lafayette Centre, 1155 21st Street NW., Washington, DC 20581; (202) 418-5010.

SUPPLEMENTARY INFORMATION: The meeting will be open to the public with seating on a first-come, first-served basis. Members of the public may also listen to the meeting by telephone by calling a domestic toll-free telephone or international toll or toll-free number to connect to a live, listen-only audio feed. Call-in participants should be prepared to provide their first name, last name, and affiliation.

Domestic Toll Free: 1-866-844-9416.

International Toll and Toll Free: Will be posted on the CFTC's Web site, http://www.cftc.gov, on the page for the meeting, under Related Documents.

Pass Code/Pin Code: CFTC.

After the meeting, a transcript of the meeting will be published through a link on the CFTC's Web site, http://www.cftc.gov. All written submissions provided to the CFTC in any form will also be published on the CFTC's Web site. Persons requiring special accommodations to attend the meeting because of a disability should notify the contact person above.

Authority: 5 U.S.C. app. 2 section 10(a)(2).

Dated: April 23, 2015.
Christopher J. Kirkpatrick,
Secretary of the Commission.

[FR Doc. 2015-09794 Filed 4-27-15; 8:45 am]

BILLING CODE 6351--